DEPARTMENT OF ENERGY

[Docket No. EA-121-B]

Application To Export Electric Energy; Dynegy Power Marketing, Inc.

AGENCY: Office of Fossil Energy, DOE.

ACTION: Notice of application.

SUMMARY: Dynegy Power Marketing, Inc. (DYPM), formerly Electric Clearinghouse, Inc. (ECI), has applied for renewal of its authority to transmit electric energy from the United States to Mexico pursuant to section 202(e) of the Federal Power Act.

DATES: Comments, protests or requests to intervene must be submitted on or before June 7, 2004.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Xavier Puslowski (Program Office) 202-586-4708 or Michael Skinker (Program Attorney) 202-586-6667.

SUPPLEMENTARY INFORMATION: On February 24, 1997, the Office of Fossil Energy (FE) of the Department of Energy (DOE) authorized ECI to transmit electric energy from the United States to Mexico as a power marketer using the international electric transmission facilities of San Diego Gas & Electric Company, El Paso Electric Company, Central Power and Light Company, and Comision Federal de Electricidad, the national electric utility of Mexico. That two-year authorization expired on February 24, 1999. On June 24, 1999, in Order EA-121-A, FE renewed ECI's authority to export electric energy to Mexico for a 5-year term. That order will expire on June 24, 2004. On August 24, 1999, FE was notified that Electric Clearinghouse Inc. had changed its name to Dynegy Power Marketing Inc.

On May 13, 2004, DYPM applied to FE for a 5-year renewal of its authority to export electric energy to Mexico as a power marketer and requested expedited processing of its application to insure there is no lapse of export authority.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on DYPM request to export to Mexico should be clearly marked with Docket EA-121-B. Additional copies are to be filed directly with Betsy R. Carr, Sr. Director & Regulatory Counsel, and Steven F. Dalhoff, Director, Regulatory Affairs, Dynegy Power Marketing, Inc., 1000 Louisiana, Suite 5800, Houston, TX 77002-5050.

Copies of this application will be made available, upon request, for public inspection and copying at the address provided above or by accessing the Fossil Energy Home Page at http://www.fe.doe.gov. Upon reaching the Fossil Energy home page select “Electricity Regulation,” and then “Pending Proceedings” from the options menus.

Issued in Washington, DC, on May 17, 2004.
Anthony J. Como,
Deputy Director, Electric Power Regulation, Office of Coal & Power Import/Export, Office of Coal & Power Systems, Office of Fossil Energy.

[FR Doc. 04-11523 Filed 5-20-04; 8:45 am]

BILLING CODE 6450-01-P